DEPARTMENT OF COMMERCE

National Oceanic and Atmospheric Administration

50 CFR Part 679

[Docket No. 960531152-6152-01; I.D. 042996B]

RIN 0648-A118

Fisheries of the Exclusive Economic Zone Off Alaska; Correction

AGENCY: National Marine Fisheries Service (NMFS), National Oceanic and Atmospheric Administration (NOAA), Commerce.

ACTION: Final rule; correcting amendments.

SUMMARY: This document contains a correction to the final rule consolidating regulations for fisheries of the Exclusive Economic Zone off Alaska that was published in the Federal Register on June 19, 1996.

DATES: Effective June 20, 2001.

FOR FURTHER INFORMATION CONTACT: Patsy A. Bearden, 907-586-7008.

SUPPLEMENTARY INFORMATION: A final rule was published in the Federal Register on 61 FR 31227 (June 19, 1996), to consolidate six parts (671, 672, 673, 675, 676, and 677) in title 50 of the CFR into one new part (50 CFR part 679). A new prohibition to § 679.7 was created by combining the prohibitions from the formerly separate six parts. Individual Fishing Quota (IFQ) fisheries prohibitions were placed into § 679.7 (f).

An error was made in citing the cross reference within one paragraph placed in the new part. The former prohibition § 676.16 (d) referred the reader to an exception at § 676.17. Section 676.17 (a), entitled “vessel clearance,” described vessel landing procedures and became § 679.5(l)(3) entitled “vessel clearance.” Section 676.17(b), entitled “Ten Percent Adjustment Policy,” described a requirement to harvest within the allocated IFQ permit amount. This second paragraph became § 679.40 (d). The former prohibition § 676.16 (d) became § 679.7 (f)(4).

The error occurs because the cross reference at § 679.7 (f)(4) incorrectly refers the reader to an exception at § 679.5 (l)(3); the correct cite is § 679.40 (d).

List of Subjects in 50 CFR Part 679

Alaska, Fisheries, Recordkeeping and reporting requirements.

Accordingly, 50 CFR part 679 is corrected by making the following correcting amendments:

PART 679—FISHERIES OF THE EXCLUSIVE ECONOMIC ZONE OFF ALASKA

1. The authority citation for part 679 continues to read as follows:

Authority: 16 U.S.C. 773 et seq., 1801 et seq., and 1631 et seq.

§ 679.7 [Corrected]

2. In § 679.7 (f)(4), remove “Except as provided in § 679.5 (l)(3)” and add in its place, “Except as provided in § 679.40 (d)”.

Dated: June 14, 2001.
William T. Hogarth,
Acting Assistant Administrator for Fisheries, National Marine Fisheries Service.

[FR Doc. 01-15537 Filed 6-19-01; 8:45 am]

BILLING CODE 3510-22-S